FEDERAL ELECTION COMMISSION

Sunshine Act Meeting

AGENCY: Federal Election Commission.

DATE & TIME: Tuesday March 17, 2015 at 10 a.m. and its continuation on Thursday March 19, 2015 at the conclusion of the open meeting.

PLACE 999 E Street NW., Washington, DC.

STATUS: This meeting will be closed to the public.

ITEMS TO BE DISCUSSED: Compliance matters pursuant to 2 U.S.C. 437g.

Information the premature disclosure of which would be likely to have a considerable adverse effect on the implementation of a proposed Commission action.

Matters concerning participation in civil actions or proceedings or arbitration.

* * * * *

PERSON TO CONTACT FOR INFORMATION: Judith Ingram, Press Officer. Telephone: (202) 694-1220

Shawn Woodhead Werth,
Secretary and Clerk of the Commission.

[FR Doc. 2015-05884 Filed 3-11-15; 11:15 am]

BILLING CODE 6715-01-P